DEPARTMENT OF COMMERCE

International Trade Administration

[A-570-088]

Certain Steel Racks and Parts Thereof From the People's Republic of China: Preliminary Results and Partial Rescission of the Antidumping Duty Administrative Review; 2022-2023

AGENCY: Enforcement and Compliance, International Trade Administration, Department of Commerce.

SUMMARY: The U.S. Department of Commerce (Commerce) preliminarily determines that the companies under review either sold certain steel racks and parts thereof (steel racks) from the People's Republic of China (China) in the United States at prices below normal value (NV) during the period of review (POR) September 1, 2022, through August 31, 2023, or do not qualify for a separate rate. Further, Commerce is rescinding this review with respect to six companies. Commerce invites interested parties to comment on the preliminary results of this review.

DATES: Applicable October 10, 2024.

FOR FURTHER INFORMATION CONTACT: Jonathan Hill, AD/CVD Operations, Office IV, Enforcement and Compliance, International Trade Administration, U.S. Department of Commerce, 1401 Constitution Avenue NW, Washington, DC 20230; telephone: (202) 482-3518.

SUPPLEMENTARY INFORMATION:

Background

On September 6, 2023, Commerce published in the Federal Register a notice of opportunity to request an administrative review of the antidumping duty order on steel racks from China.¹ After receiving review requests, Commerce initiated this review with respect to nine companies.² On May 28, 2024, Commerce extended the deadline for issuing the preliminary results of this review until September 27, 2024.³ On August 8, 2024, Commerce tolled certain deadlines in this administrative review by seven days. The deadline for the final results of this review is now October 4, 2024.⁴

¹ See Antidumping or Countervailing Duty Order, Finding, or Suspended Investigation; Opportunity to Request Administrative Review and Join Annual Inquiry Service List, 88 FR 60923 (September 6, 2023); see also Certain Steel Racks and Parts Thereof from the People's Republic of China: Amended Final Affirmative Antidumping Duty Determination and Antidumping Duty Order; and Countervailing Duty Order, 84 FR 48584 (September 16, 2019) (Order).

² See Initiation of Antidumping and Countervailing Duty Administrative Reviews, 88 FR 78298 (November 15, 2023) (Initiation Notice).

³ See Memorandum, “Extension of Deadline for Preliminary Results of Antidumping Duty Administrative Review,” dated May 28, 2024.

⁴ See Memorandum, “Tolling of Deadlines for Antidumping and Countervailing Duty Proceedings,” dated August 8, 2024. Commerce notes that the tolling of certain deadlines in administrative proceedings actually occurred on July 22, 2024.

For a complete description of the events that followed the initiation of this review, see the Preliminary Decision Memorandum.⁵ A list of topics discussed in the Preliminary Decision Memorandum is included as an appendix to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

⁵ See Memorandum, “Decision Memorandum for the Preliminary Results of the Antidumping Duty Administrative Review of Certain Steel Racks and Parts Thereof from the People's Republic of China; 2022-2023,” dated concurrently with, and hereby adopted by, this notice (Preliminary Decision Memorandum).

Scope of the Order

The merchandise covered by the Order is steel racks from China. A full description of the scope of the Order is contained in the Preliminary Decision Memorandum.

Partial Rescission of the Administrative Review

Pursuant to 19 CFR 351.213(d)(1), Commerce will rescind an administrative review, in whole or in part, if all parties who requested a review withdraw their requests within 90 days of the date that the notice of initiation of the requested review was published in the Federal Register. All requests to review the following companies were timely withdrawn: (1) Nanjing Dongsheng Shelf Manufacturing Co., Ltd.; (2) Ningbo Xinguang Rack Co., Ltd.; and (3) Xiamen Luckyroc Industry Co., Ltd.⁶ Therefore, consistent with 19 CFR 351.213(d)(1), Commerce is rescinding this review with respect to Nanjing Dongsheng, Ningbo Xinguang Rack, and Xiamen Luckyroc.

⁶ See Nanjing Dongsheng Shelf Manufacturing Co., Ltd.'s (Nanjing Dongsheng) Letter, “Withdraw of Request for Administrative Review,” dated February 9, 2024; United Material Handling Inc.'s (United Material) Letter, “Withdraw of Request for Administrative Review,” dated February 9, 2024; and Ningbo Xinguang Rack Co., Ltd.'s (Ningbo Xinguang Rack) and Xiamen Luckyroc Industry Co., Ltd.'s (Xiamen Luckyroc) Letter, “Withdrawal of Request for Administrative Review,” dated February 13, 2024.

Further, pursuant to 19 CFR 351.213(d)(3), it is Commerce's practice to rescind an administrative review of an antidumping duty order where it concludes that there were no suspended entries of subject merchandise during the POR.⁷ Normally, upon completion of an administrative review, the suspended entries are liquidated at the antidumping duty assessment rate for the review period.⁸ Therefore, for an administrative review to be conducted, there must be a reviewable, suspended entry that Commerce can instruct U.S. Customs and Border Protection (CBP) to liquidate at the calculated antidumping duty assessment rate for the review period.⁹ Commerce notified all interested parties of its intent to rescind the instant review with respect to Hebei Minmetals Co., Ltd. (Hebei), Nanjing Ironstone Storage Equipment Co., Ltd. (Nanjing Ironstone), and Nanjing Kingmore Logistics Equipment Manufacturing Co., Ltd. (Nanjing Kingmore) because there were no reviewable, suspended entries of subject merchandise from these companies during the POR ¹⁰ and invited interested parties to comment on Commerce's intention to rescind the review with respect to these companies.¹¹ We received no comments regarding this matter. In the absence of any suspended entries of subject merchandise from these companies during the POR, we are rescinding this administrative review of Hebei, Nanjing Ironstone, Nanjing Kingmore, in accordance with 19 CFR 351.213(d)(3).

⁷ See, e.g., Certain Carbon and Alloy Steel Cut-to Length Plate from the Federal Republic of Germany: Recission of Antidumping Administrative Review; 2020-2021, 88 FR 4154 (January 24, 2023).

⁸ See 19 CFR 351.212(b)(1).

⁹ See, e.g., Shanghai Sunbeauty Trading Co. v. United States, 380 F. Supp. 3d 1328, 1337 (CIT 2019), at 12 (referring to section 751(a) of the Act, the U.S. Court of International Trade held that “{w}hile the statute does not explicitly require that an entry be suspended as a prerequisite for establishing entitlement to a review, it does explicitly state the determined rate will be used as the liquidation rate for the reviewed entries. This result can only obtain if the liquidation of entries has been suspended”; see also Certain Frozen Fish Fillets from the Socialist Republic of Vietnam: Final Results of Antidumping Duty Administrative Review and Final Determination of No Shipments; 2018-2019, 86 FR 36102 (July 8, 2021), and accompanying Issues and Decision Memorandum at Comment 4; and Solid Fertilizer Grade Ammonium Nitrate from the Russian Federation: Notice of Rescission of Antidumping Duty Administrative Review, 77 FR 65532 (October 29, 2012) (noting that “for an administrative review to be conducted, there must be a reviewable, suspended entry to be liquidated at the newly calculated assessment rate”).

¹⁰ See Memorandum, “Automated Commercial System Shipment Query,” dated November 30, 2023.

¹¹ See Memorandum, “Notice of Intent to Rescind Review, In Part,” dated July 16, 2024.

Preliminary Affiliation and Single Entity Determination

Based on record evidence in this review, Commerce preliminarily determines that mandatory respondent Jiangsu Nova Intelligent Logistics Equipment Co., Ltd. (Jiangsu Nova) and the following companies are affiliated, pursuant to section 771(33)(E) of the Tariff Act of 1930, as amended (the Act), and that they should be treated as a single entity, pursuant to 19 CFR 351.401(f)(1)-(2): (1) Nanjing Jinshidai Storage Equipment Co., Ltd., and (2) Hebei Nova Intelligent Logistics Equipment Co., Ltd. For additional information, see the Preliminary Decision Memorandum.

Methodology

Commerce is conducting this review in accordance with section 751(a)(1)(B) of the Act. Commerce calculated constructed export price in accordance with section 772 of the Act. Further, because China is a non-market economy (NME) country within the meaning of section 771(18) of the Act, Commerce calculated NV in accordance with section 773(c) of the Act. For a full description of the methodology underlying our preliminary results, see the Preliminary Decision Memorandum.

Separate Rates

In all proceedings involving an NME country, Commerce maintains a rebuttable presumption that all companies are subject to government control and, thus, should be assessed a single weighted-average dumping margin unless the company can affirmatively demonstrate an absence of government control, both in law (de jure) and in fact (de facto), with respect to its exports (i.e., can affirmatively demonstrate that it is eligible for a separate rate).¹² Commerce has preliminarily determined that information placed on the record by Jiangsu Nova demonstrates that this company is eligible for a separate rate.¹³

¹² See Notice of Final Determination of Sales at Less Than Fair Value, and Affirmative Critical Circumstances, In Part: Certain Lined Paper Products from the People's Republic of China, 71 FR 53079, 53082 (September 8, 2006); see also Final Determination of Sales at Less Than Fair Value and Final Partial Affirmative Determination of Critical Circumstances: Diamond Sawblades and Parts Thereof from the People's Republic of China, 71 FR 29303, 29307 (May 22, 2006).

¹³ See Preliminary Decision Memorandum.

However, Commerce has preliminarily determined that Jiangsu Starshine Industry Equipment Co., Ltd. (Starshine) has not demonstrated its eligibility for a separate rate because although it timely filed a separate rate application, it was selected as a mandatory respondent and failed to respond to Commerce's questionnaire. In the Initiation Notice, Commerce stated that “. . . exporters and producers who submit a Separate Rate Application or Certification and subsequently are selected as mandatory respondents will no longer be eligible for separate rate status unless they respond to all parts of the questionnaire as mandatory respondents.” ¹⁴ Therefore, we have not granted Starshine a separate rate and have treated it as part of the China-wide entity.

¹⁴ See Initiation Notice, 88 FR at 78299.

The China-Wide Entity

Commerce's policy regarding conditional review of the China-wide entity applies to this administrative review.¹⁵ Under this policy, the China-wide entity will not be under review unless a party specifically requests, or Commerce self-initiates, a review of the entity. Because no party requested a review of the China-wide entity, which includes Starshine and Jiangsu JISE Intelligent Storage Equipment Co., Ltd. (JISE),¹⁶ the entity is not under review, and the entity's rate (i.e., 144.50 percent) ¹⁷ is not subject to change.

¹⁵ See Antidumping Proceedings: Announcement of Change in Department Practice for Respondent Selection in Antidumping Duty Proceedings and Conditional Review of the Nonmarket Economy Entity in NME Antidumping Duty Proceedings, 78 FR 65963 (November 4, 2013).

¹⁶ The record shows no suspended POR entries for JISE, and it did not have a separate rate during the POR; thus, it remains part of the China-wide entity.

¹⁷ See Order, 84 FR at 48585.

Preliminary Results of Review

Commerce preliminarily determines that the following weighted-average dumping margin exists for the period September 1, 2022, through August 31, 2023:

Exporter | Weighted-average dumping margin (percent)
Jiangsu Nova Intelligent Logistics Equipment Co., Ltd./Nanjing Jinshidai Storage Equipment Co., Ltd./Hebei Nova Intelligent Logistics Equipment Co., Ltd | 10.14

Disclosure and Public Comment

Commerce intends to disclose the calculations and analysis that it performed in these preliminary results of review to parties to the proceeding within five days of any public announcement of these preliminary results or, if there is no public announcement, within five days of the date of publication of this notice in the Federal Register in accordance with 19 CFR 351.224(b).

Pursuant to 19 CFR 351.309(c)(1)(ii), interested parties may submit case briefs to Commerce no later than 30 days after the date of publication of these preliminary results of review in the Federal Register. Rebuttal briefs, limited to issues raised in the case briefs, may be filed no later than five days after the date for filing case briefs.¹⁸ Interested parties who submit case briefs or rebuttal briefs in this proceeding must submit: (1) a table of contents listing each issue addressed; and (2) a table of authorities.¹⁹

¹⁸ See 19 CFR 351.309(d); see also Administrative Protective Order, Service, and Other Procedures in Antidumping and Countervailing Duty Proceedings, 88 FR 67069, 67077 (September 29, 2023) (APO and Service Final Rule).

¹⁹ See 19 351.309(c)(2) and (d)(2).

As provided under 19 CFR 351.309(c)(2) and (d)(2), in prior proceedings we have encouraged interested parties to provide an executive summary of their briefs that should be limited to five pages total, including footnotes. In this review, we instead request that interested parties provide, at the beginning of their briefs, a public executive summary for each issue raised in their briefs.²⁰ Further, we request that interested parties limit their executive summary of each issue to no more than 450 words, not including citations. We intend to use the executive summaries as the basis of the comment summaries included in the issues and decision memorandum that we will issue for the final results in this administrative review. We request that interested parties include footnotes for relevant citations in the executive summary of each issue. Note that Commerce has amended certain of its requirements pertaining to the service of documents in 19 CFR 351.303(f).²¹

²⁰ We use the term “issue” here to describe an argument that Commerce would normally address in a comment of the Issues and Decision Memorandum.

²¹ See APO and Service Final Rule.

Pursuant to 19 CFR 351.310(c), interested parties who wish to request a hearing must submit a written hearing request to the Assistant Secretary for Enforcement and Compliance, filed electronically via Enforcement and Compliance's Antidumping and Countervailing Duty Centralized Electronic Service System (ACCESS). Requests should contain: (1) the requesting party's name, address, and telephone number; (2) the number of individuals from the requesting party that will attend the hearing and whether any of those individuals is a foreign national; and (3) a list of the issues the party intends to discuss at the hearing. Issues raised in the hearing by a party will be limited to those raised in the party's case and rebuttal briefs. An electronically filed hearing request must be received successfully in its entirety by Commerce's electronic records system, ACCESS, by 5 p.m. Eastern Time within 30 days after the date of publication of this notice.

Assessment Rates

In accordance with section 751(a)(2)(C) of the Act, the assessment of antidumping duties on entries of merchandise covered by the review shall be based on the final results of this review. Therefore, upon issuance of the final results of review, Commerce will determine, and CBP shall assess, antidumping duties on all appropriate entries of subject merchandise covered by this review.²²

²² See 19 CFR 351.212(b)(1).

Commerce intends to issue assessment instructions to CBP no earlier than 35 days after the date of publication of these preliminary results in the Federal Register. If a timely summons is filed at the U.S. Court of International Trade, the assessment instructions will direct CBP not to liquidate relevant entries until the time for parties to file a request for a statutory injunction has expired (i.e., within 90 days of publication).

Commerce will calculate importer or customer-specific assessment rates for the individually examined respondent, in accordance with 19 CFR 351.212(b)(1).²³ Where the respondent reported reliable entered values, Commerce will calculate importer or customer-specific ad valorem assessment rates by dividing the total amount of dumping calculated in the final results of this review for all reviewed U.S. sales to the importer/customer by the total entered value of the merchandise sold to the importer/customer.²⁴ Where the respondent did not report entered values, Commerce will calculate importer or customer-specific per-unit assessment rates by dividing the total amount of dumping calculated in the final results of this review for all reviewed U.S. sales to the importer/customer by the total quantity of those sales. While Commerce will calculate estimated ad valorem importer or customer-specific assessment rates to determine whether the per-unit assessment rates are de minimis, Commerce will use the per-unit assessment rates where entered values were not reported.²⁵ Where either the respondent's ad valorem weighted-average dumping margin is zero or de minimis, or an importer or customer-specific ad valorem assessment rate is zero or de minimis,²⁶ Commerce will instruct CBP to liquidate the appropriate entries without regard to antidumping duties.

²³ We applied the assessment rate calculation methodology adopted in Antidumping Proceedings: Calculation of the Weighted-Average Dumping Margin and Assessment Rate in Certain Antidumping Proceedings: Final Modification, 77 FR 8101 (February 14, 2012).

²⁴ See 19 CFR 351.212(b)(1).

²⁵ Id.

²⁶ See 19 CFR 351.106(c)(2).

Pursuant to a refinement to Commerce's assessment practice, where sales of subject merchandise exported by an individually examined respondent were not reported in the U.S. sales data submitted by the respondent, but the merchandise was entered into the United States during the POR, Commerce will instruct CBP to liquidate any entries of such merchandise at the antidumping duty assessment rate for the China-wide entity.²⁷

²⁷ See Non-Market Economy Antidumping Proceedings: Assessment of Antidumping Duties, 76 FR 65694 (October 24, 2011), for a full discussion of this practice.

Commerce will instruct CBP to liquidate entries of subject merchandise exported by companies that are not eligible for a separate rate and which are therefore considered to be part of the China-wide entity, at the weighted-average dumping margin for the China-wide entity, i.e., 144.50 percent.²⁸

²⁸ See Order, 84 FR at 48586.

Pursuant to a refinement to Commerce's assessment practice, where sales of subject merchandise exported by an individually examined respondent were not reported in the U.S. sales data submitted by the respondent, but the merchandise was entered into the United States during the POR, Commerce will instruct CBP to liquidate any entries of such merchandise at the antidumping duty assessment rate for the China-wide entity.²⁹ Commerce will instruct CBP to liquidate entries of subject merchandise exported by the companies for which it rescinded the review at the cash deposit rate required at the time of entry.

Cash Deposit Requirements

The following cash deposit requirements will be in effect for all shipments of subject merchandise entered, or withdrawn from warehouse, for consumption on, or after, the date of publication of the notice of the final results of this administrative review in the Federal Register, as provided for by section 751(a)(2)(C) of the Act: (1) for an exporter granted a separate rate in the final results of this review, the cash deposit rate will be equal to the weighted-average dumping margin established in the final results of this review for the exporter (except, if the rate is de minimis, then a cash deposit rate of zero will be required); (2) for a previously investigated or reviewed exporter of subject merchandise not under review that has a separate rate, the cash deposit rate will continue to be the exporter's existing cash deposit rate; (3) for all China exporters of subject merchandise that do not have a separate rate, the cash deposit rate will be equal to the weighted-average dumping margin assigned to the China-wide entity, which is 144.50 percent; and (4) for a non-China exporter of subject merchandise that does not have a separate rate, the cash deposit rate will be equal to the weighted-average dumping margin applicable to the China exporter(s) that supplied that non-China exporter.

These cash deposit requirements, when imposed, shall remain in effect until further notice.

Final Results of Review

Unless otherwise extended, Commerce intends to issue the final results of this administrative review, which will include the results of its analysis of issues raised in case and rebuttal briefs, within 120 days of publication of these preliminary results of review in the Federal Register, pursuant to section 751(a)(3)(A) of the Act.

Notification to Importers

This notice also serves as a preliminary reminder to importers of their responsibility under 19 CFR 351.402(f) to file a certificate regarding the reimbursement of antidumping and/or countervailing duties prior to liquidation of the relevant entries during the POR. Failure to comply with this requirement could result in Commerce's presumption that reimbursement of antidumping and/or countervailing duties occurred and the subsequent assessment of double antidumping duties, and/or an increase in the amount of antidumping duties by the amount of the countervailing duties.

Notification to Interested Parties

We are issuing and publishing these preliminary results of review in accordance with sections 751(a)(l) and 777(i)(l) of the Act, and 19 CFR 351.213(h)(2) and 351.221(b)(4).

Dated: October 4, 2024.
Ryan Majerus,
Deputy Assistant Secretary for Policy and Negotiations, performing the non-exclusive functions and duties of the Assistant Secretary for Enforcement and Compliance.

Appendix—List of Topics in the Preliminary Decision Memorandum

I. Summary

II. Background

III. Scope of the Order

IV. Affiliation and Single Entity Treatment

V. Discussion of Methodology

VI. Currency Conversion

VII. Recommendation

[FR Doc. 2024-23486 Filed 10-9-24; 8:45 am]

BILLING CODE 3510-DS-P